DEPARTMENT OF HEALTH AND HUMAN SERVICES

National Institutes of Health

National Institute on Alcohol Abuse and Alcoholism; Amended Notice of Meeting

Notice is hereby given of a change in the meeting of the National Advisory Council on Alcohol Abuse and Alcoholism, September 19, 2019, 9:00 a.m. to September 19, 2019, 3:00 p.m., National Institutes of Health, National Institute on Alcohol Abuse and Alcoholism, 6700B Rockledge Drive, Bethesda, MD 20817 which was published in the Federal Register on February 05, 2019, 84 FR 1757.

This meeting notice is amended to change the meeting date from September 19, 2019 to September 12, 2019. The closed session is amended to end at 9:30 a.m. and the open session is amended to begin at 9:30 a.m. The meeting is partially closed to the public.

Dated: July 24, 2019.
Melanie J. Pantoja,
Program Analyst, Office of Federal Advisory Committee Policy.

[FR Doc. 2019-16020 Filed 7-26-19; 8:45 am]

BILLING CODE 4140-01-P